EQUAL EMPLOYMENT OPPORTUNITY COMMISSION

Agency Information Collection Activities: Proposed Collection; Submission for OMB Review

AGENCY: Equal Employment Opportunity Commission.

ACTION: Final notice of submission for OMB review—no change: State and Local Government Information (EEO-4).

SUMMARY: In accordance with the Paperwork Reduction Act of 1995, the Equal Employment Opportunity Commission (EEOC) hereby gives notice that it has submitted to the Office of Management and Budget (OMB) a request for a three year extension of the existing collection as described below.

DATES: Written comments on this final notice must be submitted on or before August 4, 2008.

ADDRESSES: The Request for Clearance (SF 83-I), supporting statement, and other documents submitted to OMB for review may be obtained from: Ronald Edwards, Director, Program Research and Surveys Division, 1801 L Street, NW., Washington, DC 20507. Comments on this final notice must be submitted to Chandana Achanta, Office of Information and Regulatory Affairs, Office of Management and Budget, 725 17th Street, NW., Room 10235, New Executive Office Building, Washington, DC 20503 or electronically mailed to Chandana_L._Achanta@omb.eop.gov. Comments should also be sent to Stephen Llewellyn, Executive Officer, Executive Secretariat, Equal Employment Opportunity Commission, 10th Floor, 1801 L Street, NW., Washington, DC 20507 by the Federal eRulemaking Portal: http://www.regulations.gov. After accessing this Web site, follow its instructions for submitting comments. As a convenience to commentators, the Executive Secretariat will accept comments totaling six or fewer pages by facsimile (“FAX”) machine. This limitation is necessary to assure access to the equipment. The telephone number of the FAX receiver is (202) 663-4114. (This is not a toll-free number.) Receipt of FAX transmittals will not be acknowledged, except that the sender may request confirmation of receipt by calling the Executive Secretariat staff at (202) 663-4070 (voice) or (202) 663-4074 (TDD). (These are not toll-free telephone numbers.)

FOR FURTHER INFORMATION CONTACT: Ronald Edwards, Director, Program Research and Surveys Division, 1801 L Street, NW., Washington, DC 20507, at (202) 663-4958 or TDD (202) 663-7063. This notice is also available in the following formats: large print, braille, audio tape and electronic file on computer disk. Requests for this notice in an alternative format should be made to the Publications Center at 1-800-669-3362.

SUPPLEMENTARY INFORMATION: A notice that EEOC would be submitting this request was published in the Federal Register on April 18, 2008, allowing for a 60-day public comment period. No comments were received.

Overview of This Information Collection:

Type of Review: Three Year Extension—No change.

Collection Title: State and Local Government Information (EEO-4).

OMB Number: OMB Number 3046-0008.

Form No.: 164.

Frequency of Report: Biennially.

Type of Respondent: State and Local Government jurisdictions with 100 or more full-time employees.

Description of Affected Public: State and Local Governments excluding elementary and secondary public school districts.

Number of Responses: 12,036.

Reporting Hours: 40,000.

Cost to Respondents: $760,000.

Number of Forms: 1.

Federal Cost: $200,000.

Abstract: Section 709(c) of Title VII of the Civil Rights Act of 1964, as amended, 42 U.S.C. 2000e-8(c), requires employers to make and keep records relevant to a determination of whether unlawful employment practices have been or are being committed and to make reports therefrom as required by the EEOC. The EEOC has issued regulations, 29 CFR 1602.32-37, which set forth the reporting requirements for State and local governments. State and local governments with 100 or more full-time employees have been required to submit EEO-4 reports since 1973 (biennially in odd numbered years since 1993). The individual reports are confidential.

EEO-4 data are used by the EEOC to investigate charges of discrimination against state and local governments and to provide information on the employment status of minorities and women. The data are shared with several other Federal government agencies. Pursuant to section 709(d) of Title VII of the Civil Rights Act of 1964, as amended, EEO-4 data are also shared with eight-six State and Local Fair Employment Practices Agencies (FEPAs). Aggregated data are also used by researchers and the general public.

Burden Statement: The estimated number of respondents include in the biennial EEO-4 survey is 6,018 State and local governments. The estimated number of responses per respondent is two (2) EEO-4 reports and the reporting burden averages between 1 and 5 hours per response, including the time needed to review instructions, search existing data sources, gather and maintain the data, and complete and review the collection of information. The total number of responses is 12,036 reports while the total burden is estimated to be 40,000 hours, including recordkeeping burden. In order to help reduce burden, respondents are encouraged to report data via on-line filing system.

Dated: June 27, 2008.
For the Commission.
Naomi C. Earp,
Chair.

[FR Doc. E8-15122 Filed 7-2-08; 8:45 am]

BILLING CODE 6570-01-P